FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than July 13, 2021.

A. Federal Reserve Bank of Kansas City (Jeffrey Imgarten, Assistant Vice President) 1 Memorial Drive, Kansas City, Missouri 64198-0001:

1. The SRT 2015 LFG Trust, Sarah Elizabeth Rowland Townsend, as co-trustee, both of Kansas City, Missouri; MHR 2015 LFG Trust, Matthew Hill Rowland, as co-trustee, both of Santa Monica, California; with Sarah Rowland, as co-trustee of both trusts, Kansas City, Missouri; to join the Rowland Family Group, a group acting in concert, to acquire voting shares of Lead Financial Group, Inc., and thereby indirectly acquire voting shares of Lead Bank, both of Kansas City, Missouri.

Board of Governors of the Federal Reserve System, June 23, 2021.
Michele Taylor Fennell,
Deputy Associate Secretary of the Board.

[FR Doc. 2021-13745 Filed 6-25-21; 8:45 am]

BILLING CODE P